DEPARTMENT OF THE INTERIOR

Bureau of Reclamation

South Coast Conduit/Upper Reach Reliability Project, Santa Barbara County, CA

AGENCY: Bureau of Reclamation, Interior.

ACTION: Notice of availability of the Final Environmental Impact Statement and Environmental Impact Report (Final EIS/EIR).

SUMMARY: Pursuant to the National Environmental Policy Act (NEPA) and the California Environmental Quality Act (CEQA), the Bureau of Reclamation (Reclamation), the Federal lead agency, and the Cachuma Operation and Maintenance Board (COMB), the State lead agency, have prepared a Final EIS/EIR for the South Coast Conduit/Upper Reach Reliability Project (SCC/URRP). The SCC/URRP involves installation of a second water pipeline for improving water supply reliability to Cachuma Project (CP) and State Water Project (SWP) customers on the South Coast of Santa Barbara County.

A Notice of Availability of the joint Draft EIS/EIR was published in the Federal Register on Wednesday, August 20, 2008 (73 FR 49218). The written comment period on the Draft EIS/EIR ended October 3, 2008. The Final EIS/EIR contains responses to all comments received and reflects comments and any additional information received during the review period.

DATES: Reclamation will not make a decision on the proposed action until at least 30 days after release of the Final EIS/EIR. After the 30-day waiting period, Reclamation will complete a Record of Decision (ROD). The ROD will state the action that will be implemented and will discuss all factors leading to the decision.

ADDRESSES: A compact disc or a copy of the Final EIS/EIR may be requested from Ms. Rain Healer, Bureau of Reclamation, 1243 `N' Street, Fresno, CA 93721-1831, by calling 559-487-5196, TTY 800-735-2929, or via e-mail at rhealer@usbr.gov, or from Ms. Kate Rees, Cachuma Operation and Maintenance Board, 3301 Laurel Canyon Road, Santa Barbara, CA 93105-2017, by calling 805-687-4011, or at krees@cachuma-board.org. The Final document is also available on the following Web sites: http://www.usbr.gov/mp/nepa/nepa_projdetails.cfm?Project_ID=3368 or www.cachuma-board.org.

See SUPPLEMENTARY INFORMATION section for locations where copies of the Final EIS/EIR are available.

FOR FURTHER INFORMATION CONTACT: Ms. Rain Healer, Bureau of Reclamation, or Ms. Kate Rees, COMB, at the phone numbers or e-mail addresses above.

SUPPLEMENTARY INFORMATION: The existing SCC/Upper Reach pipeline provides approximately 80 percent of the water supply for communities along the South Coast of Santa Barbara County. Reclamation owns the SCC facilities and COMB manages the facilities under a Transfer of Operations and Maintenance Contract with Reclamation. The SCC operates at capacity for extended periods of time, and during peak demands it is not able to provide the water needed. No redundant supply or pipeline exists to convey CVP or SWP water to the South Coast if the Upper Reach of the SCC is out of service due to scheduled and/or unexpected repairs. The proposed project would increase the operational flexibility, reliability, and conveyance capacity of the SCC between the South Portal of Tecolote Tunnel and the Corona Del Mar Water Treatment Plant to accommodate peak demand levels and to allow maintenance of one pipeline while the other is operational. The total amount of water delivered per year, however, would not increase.

The Final EIS/EIR considered the direct, indirect, and cumulative effects on the physical, natural, and human environment that may result from the construction and operation of the SCC/Upper Reach second pipeline. The Final EIS/EIR addressed potentially significant environmental issues and recommends adequate and feasible mitigation measures to reduce or eliminate significant environmental impacts, where possible. Three alternative pipeline alignments as well as no project and no action alternatives were addressed.

A public meeting was held on September 10, 2008, in Santa Barbara, CA.

Copies of the Final EIS/EIR are available for public review at the following locations:

• Bureau of Reclamation, South-Central California Area Office, 1243 `N' Street, Fresno, CA 93721-1831.

• Santa Barbara Central Public Library, 40 East Anapamu Street, Santa Barbara, CA 93101.

• Goleta Public Library, 500 North Fairview Avenue, Goleta, CA 93117.

• COMB office, 3301 Laurel Canyon Road, Santa Barbara, CA 93105-2017.

Before including your name, address, phone number, e-mail address, or other personal identifying information in your comment, you should be aware that your entire comment, including your personal identifying information, may be made publicly available at any time. While you can ask us in your comment to withhold your personal identifying information from public review, we cannot guarantee that we will be able to do so.

Dated: July 13, 2010.
Pablo R. Arroyave,
Deputy Regional Director, Mid-Pacific Region.

[FR Doc. 2010-31039 Filed 12-9-10; 8:45 am]

BILLING CODE 4310-MN-P